DEPARTMENT OF TRANSPORTATION

Federal Aviation Administration

[Summary Notice No. PE-2001-65]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, D.C., on August 30, 2001.
Donald P. Bryne,
Assistant Chief Counsel for Regulations.

Dispositions of Petitions

Docket No.: FAA-2001-10013.

Petitioner: Federal Express Corporation.

Section of 14 CFR Affected: 14 CFR 121.623(a) and (d), 121.643, and 121.645(e).

Description of Relief Sought/Disposition: To permit FedEx Express to conduct supplemental operations within the 48 contiguous United States and the District of Columbia using the flight regulations for alternate airports as required by § 121.619 and the fuel reserve regulations as required by § 121.639 that are applicable to domestic operations.

Grant, 08/17/2001, Exemption No. 7608.

Docket No.: FAA-2001-8943.

Petitioner: Avianca S.A.

Section of 14 CFR Affected: 14 CFR 121.344(d).

Description of Relief Sought/Disposition: To permit Avianca to operate a B-757 (registration No. N321LF; serial No. 26269) without that airplane being able to record data in accordance with the following paragraphs of § 121.344(a): (14) Rudder pedal input, and (17) Primary yaw control surface position.

Grant, 08/17/2001, Exemption No. 7607.

Docket No.: FAA-2001-8883.

Petitioner: Atlantic Southeast Airlines, Inc.

Section of 14 CFR Affected: 14 CFR 121.344(d)(1).

Description of Relief Sought/Disposition: To permit ASA to operate 19 Avions de Transport Regional ATR 72 airplanes without those airplanes having the capability to record data in accordance with certain paragraphs of § 121.344(a).

Grant, 08/17/2001, Exemption No. 7601.

Docket No.: 29900.

Petitioner: Atlantic Coast Airlines and Trans States Airlines, Inc.

Section of 14 CFR Affected: 14 CFR 121.344(d)(1).

Description of Relief Sought/Disposition: To permit ACA and Trans States to operate their currently-owned British Aerospace Jetstream 41 airplanes without recording all the parameters specified in § 121.344(d)(1) from the source prescribed by the regulations.

Grant, 08/17/2001 Exemption No. 7595.

Docket No.: FAA-2001-9513.

Petitioner: Big Sky Transportation Company dba Big Sky Airlines.

Section of 14 CFR Affected: 14 CFR 121.344(a).

Description of Relief Sought/Disposition: To permit Big Sky to operate it's 6 Fairchild SA-227DC/Metro 23 aircraft after August 20, 2001, without those aircraft being equipped with an approved digital flight data recorder.

Grant, 08/17/2001, Exemption No. 7596.

Docket No.: FAA-2001-9512.

Petitioner: Peninsula Airways, Inc. dba PenAir.

Section of 14 CFR Affected: 14 CFR 121.344(a).

Description of Relief Sought/Disposition: To permit PenAir to operate it's 2 Fairchild SA-227DC/Metro 23 aircraft after August 20, 2001, without those aircraft being equipped with an approved digital flight data recorder.

Grant, 08/17/2001, Exemption No. 7603.

Docket No.: FAA-2001-9740

Petitioner: American Eagle Airlines, Inc. and Executive Airlines, Inc.

Section of 14 CFR Affected: 14 CFR 121.344(c)(1) and (d)(1).

Description of Relief Sought/Disposition: To permit AME and Executive to operate certain Avions de Transport Regional ATR 42 and ATR 72 airplanes without those airplanes having the capability to record data in accordance with the following paragraphs of § 121.344(a): (12) Pitch control input; (13) Lateral control input; and (14) Rudder pedal input.

Grant, 08/17/2001, Exemption No. 7599.

[FR Doc. 01-22252 Filed 9-5-01; 8:45 am]

BILLING CODE 4910-13-M